DEPARTMENT OF ENERGY

National Nuclear Security Administration

Predictive Science Academic Alliance Program (PSAAP) IV Pre-Proposal Meeting

AGENCY: Department of Energy (DOE), National Nuclear Security Administration (NNSA).

ACTION: Notice of open meeting.

SUMMARY: This notice announces the NNSA PSAAP IV Pre-Proposal Meeting. This announcement is necessary to engage U.S. Ph.D.-granting institutions to shape the future of predictive science and seek their collaboration and feedback. The intended effect is to establish a significant academic and applied research program focused on driving advancements in computational simulations and the prediction of complex systems with quantified uncertainties.

DATES: Tuesday, August 8, 2023, 8:30 a.m.-5:00 p.m.; Wednesday, August 9, 2023, 8:30 a.m.-12:00 p.m.

ADDRESSES: The meeting will be held in-person at the Houston Airport Marriott at George Bush International, located at 18700 John F. Kennedy Blvd., Houston, TX 77032. Please register by email at psaap4-interest@lanl.gov to receive future communications about this meeting, including the agenda and information on how to purchase optional continental breakfast and lunch service.

FOR FURTHER INFORMATION CONTACT: For technical/programmatic questions, please contact Tim Germann at psaap4-questions@lanl.gov or (505) 665-9772. For logistics questions, please contact Kathy Loeppky at kloeppk@sandia.gov or (505) 844-2376.

SUPPLEMENTARY INFORMATION:

Purpose of the Meeting

The NNSA Advanced Simulation and Computing (ASC) Predictive Science Academic Alliance Program (PSAAP) IV will offer five-year cooperative agreements to U.S. Ph.D.-granting institutions to establish validated, large-scale, multi-disciplinary, and simulation-based “predictive science” as a major academic, applied research program. “Predictive Science” is the application of verified and validated computational simulations to predict properties and dynamics of complex systems with quantified uncertainties. During this pre-proposal meeting, the NNSA ASC program will present the new scope, requirements, and technical areas of interest for the next round of PSAAP Centers. Academic institutions will be encouraged to provide oral comments and feedback on the upcoming Request for Information.

Tentative Agenda

• Introduction to PSAAP IV

• Technical Areas of Interest, including:

○ Computational Science and Engineering disciplines

○ Verification, Validation, and Uncertainty Quantification

○ Scientific Machine Learning

○ Computer Science

○ Data Science

• PSAAP IV Process and Timeline

• Characteristics and Management of PSAAP IV Centers

• Questions & Answers

Public Participation

This meeting is open to the public. All U.S. Ph.D.-granting institutions with unique perspectives on simulation and computing research are encouraged to attend the meeting in-person to help shape the future of the predictive science discipline. Attendees can register to attend by emailing psaap4-interest@lanl.gov. If you require special accommodations due to a disability, please include that information in your email. Following the in-person meeting, all NNSA presentations will be publicly posted on the PSAAP website (https://psaap.llnl.gov/). Attendance at the meeting is not a prerequisite for responding to the subsequent Request for Information.

Signing Authority

This document of the Department of Energy was signed on July 19, 2023, by Dr. Marvin Adams, Deputy Administrator for Defense Programs, National Nuclear Security Administration, pursuant to delegated authority from the Secretary of Energy. That document with the original signature and date is maintained by DOE. For administrative purposes only, and in compliance with requirements of the Office of the Federal Register, the undersigned DOE Federal Register Liaison Officer has been authorized to sign and submit the document in an electronic format for publication, as an official document of the Department of Energy. This administrative process in no way alters the legal effect of this document upon publication in the Federal Register.

Signed in Washington, DC, on July 20, 2023.
Treena V. Garrett,
Federal Register Liaison Officer, U.S. Department of Energy.

[FR Doc. 2023-15693 Filed 7-24-23; 8:45 am]

BILLING CODE 6450-01-P